DEPARTMENT OF THE INTERIOR

Fish and Wildlife Service

[FWS-R3-ES-2011-N160; 30120-1113-0000-F6]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered and threatened species unless a Federal permit allows such activity. The Act requires that we invite public comment before issuing these permits.

DATES: We must receive any written comments on or before September 12, 2011.

ADDRESSES: Send written comments by U.S. mail to the Regional Director, Attn: Lisa Mandell, U.S. Fish and Wildlife Service, Ecological Services, 5600 American Blvd. West, Suite 990, Bloomington, MN 55437-1458; or by electronic mail to permitsR3ES@fws.gov.

FOR FURTHER INFORMATION CONTACT: Lisa Mandell, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE48832A.

Applicant: Kevin J. Roe, Iowa State University, Ames, IA.

The applicant requests a permit to take (capture and release; non-destructive sampling) scaleshell mussel (Leptodea leptodon) and pink mucket (Lampsilis abrupta) in Alabama, Arkansas, Kentucky, Missouri, Oklahoma, Tennessee, and West Virginia. Proposed activities are for the enhancement of survival of the species in the wild through scientific study.

Permit Application Number: TE182436.

Applicant: Illinois Natural History Survey, Champaign, IL.

The applicant requests an amendment to permit number TE182436 to take (capture and release; capture and kill) Indiana bats (Myotis sodalis) throughout the State of Illinois. Proposed activities are to monitor and evaluate the population to enhance the recovery and survival of the species in the wild. Proposed lethal take activities are associated with scientific research of white-nose syndrome in the Indiana bat and its habitats.

Permit Application Number: TE48833A.

Applicant: Dr. Brian Carver, Tennessee Tech University, Cookeville, TN.

The applicant requests a permit to take (capture and release) Indiana bats and gray bats (Myotis grisescens) in the States of Alabama, Arkansas, Georgia, Illinois, Indiana, Kentucky, Missouri, North Carolina, Ohio, Pennsylvania, Tennessee, Virginia and West Virginia. Proposed activities are aimed at enhancement of survival of the species in the wild.

Permit Application Number: TE38856A.

Applicant: Applicant: Skelly and Loy, Inc., Harrisburg, PA.

The applicant requests a permit amendment to add the gray bat to the list of covered species on their Federal permit. Proposed take (capture and release) may occur throughout the range of the species within Illinois, Indiana, Iowa, Michigan, Missouri, Ohio, Arkansas, Georgia, Kentucky, Mississippi, North Carolina, Tennessee, Connecticut, Maryland, New Jersey, New York, Pennsylvania, Vermont, Virginia, and West Virginia. The proposed activities are for the enhancement of survival of the species in the wild.

Permit Application Number: TE212427.

Applicant: Ecology and Environment, Inc., Lancaster, NY.

The applicant requests a permit amendment to add the Virginia Big-Eared Bat (Corynorhinus townsendii virginianus) to the list of species covered under their permit. Proposed activities include surveys, population monitoring, and habitat evaluation for enhancement of survival of the species in the wild.

Permit Application Number: TE48835A.

Applicant: Applied Science & Technology, Inc., Brighton, MI.

The applicant requests a permit to take (capture and release) Northern riffleshell mussel (Epioblasma torulosa rangiana) within the State of Michigan. Proposed activities are for the enhancement of survival of the species in the wild.

Permit Application Number: TE206781.

Applicant: Ecological Specialists, Inc., O'Fallon, MO.

The applicant requests an amendment to permit number TE206781 to add the following mussel species to the permit: Ouachita rock pocketbook (Arkansia wheeleri), Speckled pocketbook (Lampsilis streckeri), Dwarf wedgemussel (Alasmidonta heterodon), rough pigtoe (Pleurobema plenum), and ring pink (Obovaria retusa). Proposed activities are for the enhancement of survival of the species in the wild.

Permit Application Number: TE35503A.

Applicants: Department of Natural Resources/Department of Conservation, States of Illinois, Indiana, Iowa, Michigan, Missouri, Ohio and Wisconsin.

In anticipation of the spread of white-nose syndrome and the possible issuance of permits under section 10(a)(1)(A), we announce the intention to issue such permits, including the possible use of lethal taking to address public health concerns and scientific research aimed at recovery of the species. These permits will address take of Indiana bats and gray bats in the Midwest for these purposes.

Public Comments

We seek public review and comments on these permit applications. Please refer to the permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Dated: August 5, 2011.
Sean Marsan,
Acting Assistant Regional Director, Ecological Services, Region 3.

[FR Doc. 2011-20598 Filed 8-11-11; 8:45 am]

BILLING CODE 4310-55-P